LIBRARY OF CONGRESS

Copyright Office

Notice of Roundtable on the World Intellectual Property Organization (WIPO) Treaty On the Protection of the Rights of Broadcasting Organizations

AGENCY: United States Copyright Office, Library of Congress.

ACTION: Notice announcing public forum.

SUMMARY: The United States Copyright Office and the United States Patent and Trademark Office (USPTO) announce a public roundtable discussion concerning the work at the World Intellectual Property Organization (WIPO) in the Standing Committee on Copyright and Related Rights (SCCR) on a proposed Treaty on the Protection of the Rights of Broadcasting Organizations. Members of the public are invited to attend and observe the roundtable, or to participate in the roundtable discussion, on the topics outlined in the supplementary information section of this notice.

DATES: The roundtable will be held on Wednesday, May 9, 2007, beginning at 2 p.m. and ending at 4 p.m.

ADDRESSES: The roundtable will be held in the Mumford Room at the James Madison Memorial Building, 6th Floor, Library of Congress, 101 Independence Avenue, SE., Washington, DC.

Persons wishing to attend and observe or participate in the roundtable are required to submit requests to observe the roundtable or participate, preferably by electronic mail through the Internet to sking@loc.gov. Alternatively, you may submit requests by facsimile at 202-707-8366 or via regular mail to: U.S. Copyright Office, Copyright GC/I&R, P.O. Box 70400, Southwest Station, Washington, DC 20024, marked to the attention of Simone King. Please be aware that delivery of mail (U.S. Postal Service and private carrier) sent to the U.S. Copyright Office is subject to delay. Therefore, it is strongly suggested that any request to observe or participate be made via e-mail or fax. Requests to observe the roundtable or to participate as a member of the roundtable must indicate the following information:

1. The name of the person, including whether it is your intention to observe the roundtable or to participate as a member of the roundtable;

2. The organization or organizations represented by that person, if any;

3. Contact information (address, telephone, and e-mail);

4. Information on the specific focus or interest of the observer or participant (or his or her organization) and any questions or issues you would like to raise.

The deadline for receipt of requests to observe or participate in the roundtable is 5:00 p.m. on Friday, May 4, 2007. If we receive so many requests that we reach the room's capacity, attendance will be granted in the order the requests were received.

FOR FURTHER INFORMATION CONTACT: Simone King by telephone at 202-707-5516, by facsimile at 202-707-8366, by electronic mail at sking@loc.gov, or by mail addressed to the U.S. Copyright Office, Copyright GC/I&R, P.O. Box 70400, Southwest Station, Washington, DC 20024, marked to the attention of Simone King.

SUPPLEMENTARY INFORMATION:

Background

For the past eight years and since the first meeting of the Standing Committee on Copyright and Related Rights in November 1998, WIPO has been addressing the topic of updating the protection of the rights of broadcasting organizations. Although broadcasters’ rights are protected under some existing international agreements, such as under the 1961 Convention for the Protection of Performers, Producers of Phonograms and Broadcasting Organizations (however, the United States is not a party to that treaty) and the World Trade Organization’s Agreement on Trade-Related Aspects of Intellectual Property Rights, there has been increasing concern that changes in technology and the opening up of much of the world to commercial broadcasting, have made the protection provided in those agreements ineffective to protect broadcast signals against piracy.

At the September 2006 WIPO General Assembly, the decision was taken to convene two special sessions of the SCCR to clarify the outstanding issues, the first one in January 2007, and the second one in June 2007. The special sessions of the SCCR should aim to agree and finalize, on a signal-based approach, the objectives, specific scope and object of protection with a view toward submitting to the Diplomatic Conference a revised basic proposal, which will amend the agreed relevant parts of the Revised Draft Basic Proposal (Document SCCR/15/2). The Diplomatic Conference will be convened in November 2007 if such agreement is achieved.

WIPO posts various documents from its meetings, such as reports, Member State submissions, meeting agendas, and texts prepared by the Chair of the SCCR. On March 9, 2007, in accordance with the decisions of the First Special Session of the SCCR which took place from January 17 to 19, 2007, WIPO requested comments from Member States on a Draft Non-paper on the WIPO Treaty on the Protection of Broadcasting Organizations, prepared by the Chair of the First Special Session, with the assistance of the WIPO Secretariat (Document SCCR/S1/WWW/75352 can be found at http://www.wipo.int/edocs/mdocs/sccr/en/sccr_s1/sccr_s1_www_75352.doc). Member State submissions commenting on the Draft Non-paper on the WIPO Treaty on the Protection of Broadcasting Organizations, including comments of the United States Government, are available at http://www.wipo.int/copyright/en/sccr_s1/. A revised Non-paper, taking into account Member State comments on the Draft Non-paper, is expected to be made available to Member States on May 1, 2007.

Throughout this process in WIPO, many points of view have been represented, including those of developed and developing countries, and many non-governmental organizations (NGOs), and numerous industry, creator and content owner groups. The U.S. Copyright Office and USPTO have participated in several informal meetings with interested parties such as broadcasters, netcasters, telecom companies, Internet service providers, content industries, creators and other NGOs, in order to obtain views and information relevant to the deliberations in the SCCR on this proposed treaty.

In order to allow further opportunity for interested parties to comment, the U.S. Copyright Office and USPTO are convening this roundtable -- the third held on this issue --to provide another forum for such parties to provide their views on and additional information related to the proposed treaty. In particular, the participants should be prepared to identify and discuss more fully any issues and concerns associated with the revised Non-paper to be released by WIPO on May 1, 2007.

Dated: April 9, 2007.
David O. Carson,
Associate Register for Policy and International Affairs U.S. Copyright Office.

[FR Doc. E7-6964 Filed 4-11-07; 8:45 am]

BILLING CODE 1410-30-S